DEPARTMENT OF VETERANS AFFAIRS

[OMB Control No. 2900-0049]

Agency Information Collection Activity: Request for Approval of School Attendance and School Attendance Report

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before August 23, 2021.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0049” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0049” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 U.S.C. 101 (4)(A), 38 CFR 3.277 and 3.667.

Title: Request for Approval of School Attendance (VA Forms 21-674 and 674c) and School Attendance Report (VA Form 21-674b).

OMB Control Number: 2900-0049.

Type of Review: Extension of a currently approved collection.

Abstract: 38 U.S.C. 101 (4)(A) provides the authority to pay benefits to or for a child who attends an approved course of instruction or training between the ages of 18 and 23. VA Forms 21-674, 674b, and 674c solicit information that is needed to determine eligibility to benefits for these children. Without this information, VA would be unable to properly authorize benefits.

No changes have been made to these forms. The respondent burden has decreased due to the estimated number of receivables totaled from the previous year.

Affected Public: Individuals or Households.

Estimated Annual Burden: 6,354 hours.

Estimated Average Burden per Respondent:

a. 15 minutes for VA Forms 21-674 and 674c.

b. 5 minutes for VA Form 21-674.

Frequency of Response: One time.

Estimated Number of Respondents: 32,679.

By direction of the Secretary.
Dorothy Glasgow,
VA PRA Clearance Officer, (Alternate), Office of Enterprise and Integration/Data Governance Analytics, Department of Veterans Affairs.

[FR Doc. 2021-13292 Filed 6-23-21; 8:45 am]

BILLING CODE 8320-01-P